DEPARTMENT OF COMMERCE

Foreign-Trade Zones Board

[Order No. 1435]

Termination of Foreign-Trade Subzone 61F Guayama, Puerto Rico

Pursuant to the authority granted in the Foreign-Trade Zones Act of June 18, 1934, as amended (19 U.S.C. 81a-81u), and the Foreign-Trade Zones Board Regulations (15 CFR part 400), the Foreign-Trade Zones Board has adopted the following order:

Whereas, on November 28, 1995 the Foreign-Trade Zones Board issued a grant of authority to the Puerto Rico Trade and Export Company (PRTEC) authorizing the establishment of Foreign-Trade Subzone 61F at the IPR Pharmaceuticals, Inc. facility, Guayama, Puerto Rico (Board Order 787, 60 FR 63499, 12/11/95);

Whereas, PRTEC advised the Board on June 21, 2005 (FTZ Docket 32-2005), that zone procedures were no longer needed at the facility and requested voluntary termination of Subzone 61F;

Whereas, the request has been reviewed by the FTZ Staff and Customs officials, and approval has been recommended;

Now, therefore, the Foreign-Trade Zones Board terminates the subzone status of Subzone 61F, effective this date.

Signed at Washington, DC, this 10th day of February, 2006.
David M. Spooner,
Assistant Secretary of Commerce for Import Administration, Alternate Chairman, Foreign-Trade Zones Board.

Attest:

Dennis Puccinelli,

Executive Secretary.

[FR Doc. E6-2669 Filed 2-23-06; 8:45 am]

BILLING CODE 3510-DS-P